DEPARTMENT OF DEFENSE

Department of the Army; Corps of Engineers

Intent To Prepare an Environmental Impact Report and Environmental Impact Statement (EIR/EIS) for the East Cliff Drive Bluff Stabilization and Parkway Project

AGENCY: Army Corps of Engineers, DOD.

ACTION: Notice of intent.

SUMMARY: The San Francisco District and the County of Santa Cruz, California intend to prepare a combined EIR/EIS to support a cost shared project for the stabilization of a stretch of coastal bluff and development of a parkway. This document will fulfill requirements under the California Environmental Quality Act (CEQA) and the National Environmental Policy Act (NEPA). The project area is located within the Pleasure Point area, an unincorporated coastal residential neighborhood located midway between the cities of Santa Cruz and Capitola, California. The project is located on and adjacent to East Cliff Drive, from and including the Pleasure Point Overlook Park site located on the southeast corner of the intersection of East Cliff Drive and 32nd Avenue/Pleasure Point Drive (32nd Avenue becomes Pleasure Point Drive on the south side of East Cliff Drive) to “The Hook” park site located on the south side of East Cliff Drive at the south end of 41st Avenue. The seawall runs only from 32nd Avenue to 36th Avenue, with a smaller portion being constructed along the bluff area at the end of 41st Avenue.

FOR FURTHER INFORMATION CONTACT: Questions and comments can be directed to Ms. Linda Ngim either by telephone at (415) 977-8538, by fax at (415) 977-8695, or by mail at the address below.

SUPPLEMENTARY INFORMATION: 1. Purpose. The purpose of this project is to prevent further erosion of the bluff face, which endangers the roadway, utility lines and homes, and potentially impedes public access to coastal resources. Proposed projects include the seawall (soil-nail wall) plan roadway and parkway improvements, a pedestrian and bike path, and landscaping. Alternatives to be evaluated include; groins, rock revetments, partial bluff stabilization, and the no project alternative plan. There is also a possibility of changing the direction of traffic in the project area along East Cliff Drive from the eastbound to the westbound direction. The EIR/EIS will analyze impacts on the environment on these alternatives, including the recommended plan. The Army Corps of Engineers and the County of Santa Cruz intends to prepare an EIR/EIS to assess the environmental effects associated with the proposed project. The public will have the opportunity to comment on this analysis before any action is taken to implement the proposed action.

2. Scoping. The Army Corps of Engineers and the County of Santa Cruz will hold a scoping meeting on April 12, 2001 at the Simpkins Swim Center, 979 17th Avenue in Santa Cruz, California 94062 from 7:30 p.m. to 9:00 p.m. Federal, State and Local agencies are invited to participate at the public meeting or by submitting data, information, and comments identifying relevant environmental and socioeconomic issues to be addressed in the environmental analysis. Useful information for submittal includes other environmental studies, published and unpublished data, alternatives that should be addressed in the analysis, and mitigation measures associated with the proposed action. Comments and suggestions as well as requests to be placed on the mailing list for announcements and for the Draft EIR/EIS should be sent to Ms. Linda Ngim, U.S. Army Corps of Engineers, San Francisco District, 333 Market Street, 7th Floor (CESPN-ET-PP), San Francisco, California, 94105-2197.

3. Availability of the Draft EIR/EIS. The Draft EIR/EIS is expected to be published in the late Spring of 2001, and a public hearing to receive comments on the Draft EIR/EIS will be held after it is published.

Dated: March 23, 2001.
Timothy S. O'Rourke,
Lt. Colonel, Corps of Engineers, District Engineer.

[FR Doc. 01-7916 Filed 3-29-01; 8:45 am]

BILLING CODE 3710-19-M